NUCLEAR REGULATORY COMMISSION

Advisory Committee on Reactor Safeguards; Revised Meeting Notice

The Agenda for the 578th ACRS meeting, scheduled to be held on December 2-4, 2010, has been revised as noted below. Notice of this meeting was previously published in the Federal Register on Wednesday, November 17, 2010 (75 FR 70304-70305).

The discussion on the Draft Final Rule and Regulatory Guidance Regarding Enhancements to Emergency Planning Regulations, scheduled to be held on Thursday, December 2, 2010, between 10:15 a.m. and 12:15 p.m., is being postponed to a future meeting.

The discussion on the Staff's Assessment of the RAMONA5-FA Code scheduled to be held on Friday, December 3, 2010, between 10:15 a.m. and 12:15 p.m., is also being postponed to a future meeting.

The discussion on the Future ACRS Activities/Report of the Planning and Procedures Subcommittee, scheduled to be held on Friday, December 3, 2010, between 2 p.m. and 3:30 p.m., is now scheduled from 2 p.m. to 3 p.m.

The discussion on the Reconciliation of ACRS Comments and Recommendations, scheduled to be held on Friday, December 3, 2010, between 3:30 p.m. and 3:45 p.m., is now scheduled from 3 p.m. to 3:15 p.m.

The discussion on the Final Safety Evaluation Report Associated with the Amendment to the AP1000 Design Control Document, scheduled to be held on December 2, 2010, between 1:15 p.m. and 4:15 p.m., will now begin at 10:15 a.m. and is being extended until 7 p.m.

The Preparation of ACRS Reports will now also take place on Friday, December 3, 2010, between 10:15 a.m. and 12:15 p.m. and then again from 3:30 p.m. to 7 p.m.

A revised agenda is posted on the NRC Web site at http://www.nrc.gov/readingrm/adams.html or http://www.nrc.gov/reading-rm/doc-collections/ACRS/.

Further information regarding this meeting can be obtained by contacting Ms. Ilka Berrios, Cognizant ACRS Staff (Telephone: 301-415-3179, E-mail: Ilka.Berrios@nrc.gov), between 7:30 a.m. and 5:15 p.m. (ET).

Dated: November 22, 2010
Andrew L. Bates,
Advisory Committee Management Officer.

[FR Doc. 2010-29915 Filed 11-24-10; 8:45 am]

BILLING CODE 7590-01-P